DEPARTMENT OF STATE

[Public Notice: 6191]

Notice of Information Collection Under Emergency Review: DS-4131, Advance Notification Form: Tourist and Other Non-Governmental Activities in the Antarctic Treaty Area, OMB Control Number 1405-xxxx

AGENCY: Department of State.

ACTION: Notice of request for emergency OMB approval.

SUMMARY: The Department of State has submitted the following information collection request to the Office of Management and Budget (OMB) for review and approval in accordance with the emergency review procedures of the Paperwork Reduction Act of 1995.

• Title of Information Collection: Advance Notification Form: Tourist and Other Non-Governmental Activities in the Antarctic Treaty Area.

• OMB Control Number: none.

• Type of Request: Emergency Review.

• Originating Office: Office of Oceans Affairs, Bureau of Oceans, Environment and Science (OES/OA).

• Form Number: DS-4131.

• Respondents: Operators of Antarctic expeditions organized in or proceeding from the United States.

• Estimated Number of Respondents: 22.

• Estimated Number of Responses: 22.

• Average Hours Per Response: 10.5 hours.

• Total Estimated Burden: 231 hours.

• Frequency: On occasion.

• Obligation to respond: Mandatory.

The proposed information collection is published to obtain comments from the public and affected agencies. Emergency review and approval of this collection has been requested from OMB by May 31, 2008. If granted, the emergency approval is only valid for 180 days. Comments should be directed to the Department of State Desk Officer in the Office of Information and Regulatory Affairs at the Office of Management and Budget (OMB), Washington, DC 20503. Fax number 202-395-6974.

During the first 60 days of the emergency approval period, a regular review of this information collection is also being undertaken. The agency requests written comments and suggestions from the public and affected agencies concerning the proposed collection of information. Comments will be accepted until 60 days from the date that this notice is published in the Federal Register.

You may submit comments by any of the following methods:

• E-mail: HughesLR@state.gov.

• Mail (paper, disk, or CD-ROM submissions): Lawrence R. Hughes, Office of Oceans Affairs, Room 2665, Bureau of Oceans, Environment, and Science, U.S. Department of State, 2201 C Street, NW., Washington, DC 20520

You must include the DS form number (if applicable), information collection title, and OMB control number in any correspondence.

FOR FURTHER INFORMATION CONTACT: Direct requests for additional information regarding the collection listed in this notice, including requests for copies of the proposed information collection and supporting documents, to Lawrence R. Hughes, Office of Oceans Affairs, Room 2665, Bureau of Oceans, Environment and Science, U.S. Department of State, 2201 C Street, NW., Washington DC 20520, who may be reached on (202) 647-0237 or at HughesLR@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

Information solicited on the Advance Notification Form, (DS-4131), is required to provide the U.S. Government with information on tourist and other non-governmental expeditions to Antarctica. This is needed to comply with Article VII(5)(a) of the Antarctic Treaty and comport with Antarctic Treaty Consultative Meeting Recommendation XVIII-1 and Resolution XIX-3.

Methodology

Information will be submitted in signed original by U.S. organizers of tourist and other non-governmental expeditions to Antarctica. Advance copies are submitted by e-mail.

Dated: April 10, 2008.
Constance C. Arvis,
Director of Oceans Affairs, Acting, Bureau of Oceans, Environment and Science, Department of State.

[FR Doc. E8-8157 Filed 4-15-08; 8:45 am]

BILLING CODE 4710-09-P